DEPARTMENT OF HOMELAND SECURITY

Coast Guard

33 CFR Part 117

[Docket No. USCG-2016-1023]

Drawbridge Operation Regulation; Annisquam River and Blynman Canal, Gloucester, MA

AGENCY: Coast Guard, DHS.

ACTION: Notice of temporary deviation from drawbridge regulations; modification.

SUMMARY: The Coast Guard has modified a temporary deviation from the operating schedule that governs the Blynman (SR127) Bridge across the Annisquam River and Blynman Canal at mile 0.0 at Gloucester, MA. This modified deviation allows the bridge to remain in the closed-to-navigation position and is necessary to perform bridge repairs.

DATES: This modified deviation is effective from 7 a.m. on March 13, 2017 through 4 p.m. on March 19, 2017.

ADDRESSES: The docket for this deviation, USCG-2016-1023 is available at http://www.regulations.gov. Type the docket number in the “SEARCH” box and click “SEARCH”. Click on Open Docket Folder on the line associated with this deviation.

FOR FURTHER INFORMATION CONTACT: If you have questions on this modified temporary deviation, call or email Mr. Jeffrey Stieb, First Coast Guard District Bridge Branch, Coast Guard, telephone 617-223-8364, email Jeffrey.D.Stieb@uscg.mil.

SUPPLEMENTARY INFORMATION: On December 9, 2016, the Coast Guard published a temporary deviation entitled “Drawbridge Operation Regulation; Annisquam River and Blynman Canal, Gloucester, MA” in the Federal Register (81 FR 89007). The temporary deviation allows the bridge to be opened with a two hour advance notice during the hours of 8 p.m. through 4 a.m. from December 6, 2016 through April 30, 2017.

The owner of the bridge, the Massachusetts Department of Transportation, has requested a modification of the currently published deviation in order to close the bridge to navigation from 7 a.m. on Monday, March 13, 2017 through 4 p.m. on Sunday, March 19, 2017, for necessary repairs. Two bascule leaf motors will be removed off site to be rehabilitated and reinstalled. During the period of this modification the draw span will be inoperable.

The waterways are transited primarily by seasonal recreational vessels of various sizes. On average, twelve requests were made annually during the seven day period in March for which the modification is requested. The bridge will not be able to open for emergencies. The Coast Guard contacted local waterway users regarding the Commonwealth's request for this modification and received no objections. The height of the bridge in the closed position is eight feet. Vessels able to pass through the bridge in the closed position may continue to do so. The northern entrance to the Annisquam River can be used as an alternate route for vessels to Ipswich Bay and the Atlantic Ocean.

The Coast Guard will inform users of the bridge closure through our Local and Broadcast Notices to Mariners so vessel operators can arrange their transit to minimize impacts. The drawbridge schedule will return to regular operation on April 30, 2017. This deviation from the operating regulations is authorized under 33 CFR 117.35.

Dated: February 27, 2017.
C.J. Bisignano,
Supervisory Bridge Management Specialist, First Coast Guard District.

[FR Doc. 2017-04110 Filed 3-2-17; 8:45 am]

BILLING CODE 9110-04-P